DEPARTMENT OF THE INTERIOR

National Park Service

Notice of Inventory Completion: Oregon State University, Corvallis, OR

AGENCY: National Park Service, Interior.

ACTION: Notice.

SUMMARY: Pursuant to the Native American Graves Protection and Repatriation Act (NAGPRA), the Oregon State University, Corvallis, OR (museum that has control of the cultural items), determined that the physical remains of 28 individuals of Native American ancestry in the museum's collections, described below in Information about cultural items, are culturally affiliated with the Confederated Tribes of the Grand Ronde Community of Oregon.

The National Park Service publishes this notice on behalf of the museum as part of the National Park Service's administrative responsibilities under NAGPRA. The museum is solely responsible for information and determinations stated in this notice. The National Park Service is not responsible for the museum's determinations.

Information about NAGPRA is available online at www.cr.nps.gov/nagpra.

DATES: Repatriation of the cultural items to the Indian tribe listed above in Summary may proceed after November 12, 2004, if no additional claimants come forward. Representatives of any other Indian tribe that believes itself to be culturally affiliated with the cultural items should contact the museum before November 12, 2004.

SUPPLEMENTARY INFORMATION:

Authority. 25 U.S.C. 3001 et seq. and 43 CFR Part 10.

Contact Contact Orcilia Zuniga-Forbes, Vice President for University Advancement, Oregon State University, 634 Kerr Administration Building, Corvallis, OR 97331, telephone (541) 737-4875, regarding determinations stated in this notice or to claim the cultural items described in this notice.

Consultation.The museum identified the cultural items and the cultural affiliation of the cultural items in consultation with representatives of the Confederated Tribes of the Grand Ronde Community of Oregon and Confederated Tribes of the Siletz Reservation, Oregon.

Information about cultural items. Between 1860 and 1919, Dr. J.L. Hill or another individual removed human remains representing a minimum of 13 individuals from the Calapooia Mounds site, Linn County, OR. A published source states that Dr. Hill worked at the Calapooia Mounds site in 1883, but it is not clear whether Dr. Hill removed the 13 individuals from the Calapooia Mounds site at that time. No other provenance documentation is available. The status of the land at the time of removal is unknown. No known individual was identified. No associated funerary objects are present.

Between 1860 and 1919, Dr. Hill, J.G. Crawford, or another individual removed human remains representing a minimum of 15 individuals from the Tangent and/or Calapooia Mounds sites, Linn County, OR. A 1930 document lists J.G. Crawford as an original donor along with Dr. Hill. The museum does not have information about how Dr. Hill or Mr. Crawford acquired the human remains. The only provenance documentation available is a label on a rib, which says “From Tangent Mound,” and a partial label on a femur, which says “mound.” The status of the land at the time of removal is unknown. No known individual was identified. No associated funerary objects are present.

The human remains are part of the Dr. J.L. Hill collection. The Museum of Oregon Country, Oregon Agricultural College acquired the collection from Dr. Hill's son and daughter in 1925. The Museum of Oregon Country was renamed the John B. Horner Museum of the Oregon Country in 1936, and became commonly known as the Horner Museum. The Oregon Agricultural College was renamed the Oregon State College in 1937, and became Oregon State University in 1962. The Horner Museum closed in 1995. Currently, cultural items from the Horner Museum are referred to as the Horner Collection, which is owned by, and in the possession of, Oregon State University.

The Confederated Tribes of the Grand Ronde Community of Oregon is made up of tribes from throughout western Oregon, which were later located on the Grand Ronde Reservation. The ceded lands for the Confederated Tribes of the Grand Ronde Community of Oregon encompass the Tangent and the Calapooia Mounds sites.

Determinations. Under 25 U.S.C. 3003, museum officials determined that the human remains represent the physical remains of 28 individuals of Native American ancestry. Museum officials determined that the human remains are culturally affiliated with the Indian tribe listed above in Summary.

Notification. The museum is responsible for sending copies of this notice to the Indian tribe listed above in Consultation.

Dated: August 16, 2004.
Sherry Hutt,
Manager, National NAGPRA Program

[FR Doc. 04-22828 Filed 10-8-04; 8:45 am]

BILLING CODE 4312-50-S